DEPARTMENT OF THE INTERIOR

Fish and Wildlife Service

[FWS-R4-R-2011-N052; 40136-1265-0000-S3]

Savannah National Wildlife Refuge Complex, GA and SC; Final Comprehensive Conservation Plan and Finding of No Significant Impact for Environmental Assessment

AGENCY: Fish and Wildlife Service, Interior.

ACTION: Notice of availability.

SUMMARY: We, the Fish and Wildlife Service (Service), announce the availability of our final comprehensive conservation plan (CCP) and finding of no significant impact (FONSI) for the environmental assessment for Savannah Coastal National Wildlife Refuge Complex (Complex). The Complex consists of the following refuges: Pinckney Island NWR in Beaufort County, South Carolina; Savannah NWR in Chatham and Effingham Counties, Georgia, and Jasper County, South Carolina; Tybee NWR in Jasper County, South Carolina; Wassaw NWR in Chatham County, Georgia; and Blackbeard Island NWR off the coast of McIntosh County, Georgia. In the final CCP, we describe how we will manage these refuges for the next 15 years.

ADDRESSES: You may obtain a copy of the CCP by writing to: Ms. Jane Griess, 694 Beech Hill Lane, Hardeeville, SC 29927. Alternatively, you may download the document from our Internet Site: http://southeast.fws.gov/planning, under “Final Documents.”

FOR FURTHER INFORMATION CONTACT: Ms. Jane Griess, at 843/784-9911 (telephone), 843/784-2465 (fax), or jane_griess@fws.gov (e-mail).

SUPPLEMENTARY INFORMATION:

Introduction

With this notice, we finalize the CCP process for the Complex. The CCP for Wolf Island NWR, which is a part of the Complex, was completed in 2008. We started this process through a Federal Register notice on May 19, 2008 (73 FR 28838). Please see that notice for more about the refuges.

We announce our decision and the availability of the final CCP and FONSI for the Complex in accordance with the National Environmental Policy Act (NEPA) (40 CFR 1506.6 (b)) requirements. We completed a thorough analysis of impacts on the human environment, which we included in the draft comprehensive conservation plan and environmental assessment (Draft CCP/EA).

Compatibility determinations for beach use, bicycling, commercial guiding for wildlife-wildland observation, environmental education and interpretation, recreational fishing, hiking, public hunting, mosquito control, scientific research, timber harvest, salvage timber harvest and sale, utility rights-of-way, and wildlife observation and photography are available in the CCP.

Background

The CCP Process

The National Wildlife Refuge System Administration Act of 1966 (16 U.S.C. 668dd-668ee) (Administration Act), as amended by the National Wildlife Refuge System Improvement Act of 1997, requires us to develop a CCP for each national wildlife refuge. The purpose for developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation, wildlife photography, and environmental education and interpretation. We will review and update the CCP at least every 15 years in accordance with the Administration Act.

Comments

We made copies of the Draft CCP/EA available for a 30-day public review and comment period via a Federal Register notice on September 15, 2010 (75 FR 56133). We received comments from State and Federal government agencies, local government agencies, non-governmental organizations, and local citizens.

Selected Alternative

We developed three alternatives for managing the Complex. After considering the comments we received and based on the professional judgment of the planning team, we selected Alternative B for implementation. The primary focus under Alternative B will be to increase management. This alternative best signifies the vision, goals, and purposes of the Complex. We will emphasize restoring and improving resources needed for wildlife and habitat management and providing enhanced appropriate and compatible wildlife-dependent public use opportunities, while addressing key issues and individual mandates.

We will focus on augmenting wildlife and habitat management to identify, conserve, and restore populations of native fish and wildlife species, with an emphasis on migratory birds and threatened and endangered species. This will partially be accomplished by increased monitoring of waterfowl, other migratory and resident birds, and endemic species in order to assess and adapt management strategies and actions. We will address information gaps by the initiation of baseline surveys and periodic monitoring.

Habitat management programs for impoundments, beaches, wetlands, open waters, forested habitats, scrub/shrub habitats, grasslands, and open lands will be re-evaluated and step-down management plans will be developed to meet the foraging, resting, and breeding requirements of priority species. Additionally, monitoring and adaptive habitat management will be implemented to potentially counteract the impacts associated with long-term climate change and sea level rise.

We will more aggressively manage invasive and exotic plant species by implementing a management plan, completing a baseline inventory, supporting research, and controlling by strategic mechanical and chemical means. Additionally, we will utilize this management plan to enhance our efforts to control/remove invasive, exotic, and/or nuisance animals on the refuges.

Alternative B enhances each refuge's visitor service opportunities (except for Tybee NWR, which will remain closed to the public) by: (1) Improving the quality of fishing opportunities; (2) streamlining the quota hunt process and where possible evaluating the options of allowing the use of crossbows and creating additional hunting opportunities; and (3) maintaining and where possible expanding environmental education opportunities. Volunteer programs and a friends group will be expanded to enhance all aspects of management and to increase resource availability. The Complex is also evaluating the possibility of utilizing a concessionaire at Pinckney Island NWR, to implement a tram tour of the refuge that will provide access in a controlled manner and allow participation of patrons with mobility issues.

Under this alternative, the priority of land acquisition at Harris Neck NWR will be to acquire lands that provide resource and public use values. This will be accomplished by acquiring lands from willing sellers by fee title purchase, donation, mitigation purchase and transfer, or other viable means. This will include an investigation into expanding the current acquisition boundary. At Savannah NWR, focus will be increased on acquiring lands that provide resource and public use values. This, too, will be accomplished by acquiring lands from willing sellers.

Law enforcement activities to protect archaeological and historical sites and to provide visitor safety will be intensified. The allocation of an additional law enforcement officer for the Complex will provide security for cultural resources, but will also ensure visitor safety and public compliance with refuge regulations.

Administration plans will stress the need for increased maintenance of existing infrastructure and construction of new facilities. Funding for new construction projects will be balanced between habitat management and public use needs. Additional staff will be required to accomplish the goals of this alternative. Personnel priorities will include employing an environmental education coordinator, law enforcement officers/park rangers, a volunteer coordinator, biological technicians, maintenance workers, refuge managers, assistant refuge managers, and a geographic information systems specialist. The increased Complex budget and staffing levels will better enable us to meet the obligations of wildlife stewardship, habitat management, and public use.

Authority

This notice is published under the authority of the National Wildlife Refuge System Improvement Act of 1997, Public Law 105-57.

Dated: April 5, 2011.
Mark J. Musaus,
Acting Regional Director.

Editorial Note: This document was received in the Office of the Federal Register on Monday, October 4, 2011.

[FR Doc. 2011-25981 Filed 10-6-11; 8:45 am]

BILLING CODE 4310-55-P